DEPARTMENT OF ENERGY

Federal Energy Regulatory Commission

[Project No. 7684-001]

Sharon and Marcia Leishman; Notice of Termination of Exemption by Implied Surrender and Soliciting Comments and Protests

Take notice that the following hydroelectric proceeding has been initiated by the Commission:

a. Type of Proceeding: Termination of exemption by implied surrender

b. Project No.: 7684-001

c. Date Initiated: February 3, 2014

d. Exemptee: Sharon and Marcia Leishman

e. Name and Location of Project: The Leishman Irrigation System Project is located on the irrigation tailwater collection system on the Leishman's property in Kittitas County, Washington.

f. Filed Pursuant to: 18 CFR 4.106

g. Exemptee Contact Information: Sharon Leishman (425) 235-8118

h. FERC Contact: Krista Sakallaris, (202) 502-6302, Krista.Sakallaris@ferc.gov.

i. Deadline for filing comments and protests is 30 days from the issuance of this notice by the Commission. Please file your submittal electronically via the Internet (eFiling) in lieu of paper. Please refer to the instructions on the Commission's Web site under http://www.ferc.gov/docs-filing/efiling.asp and filing instructions in the Commission's Regulations at 18 CFR section 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-7684-001) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: (1) A 1,100-foot-long, 12-inch-diameter PVC pipeline; (2) a powerhouse containing two generating units with rated capacities of 25 kW and 7.5 kW and a combined annual energy production of 60 MWh; and (3) a discharge conduit.

k. Description of Proceeding: The exemptee is in violation of Standard Article 1 of its exemption, which was granted April 6, 1984 (27 FERC ¶61,074). The Commission's regulation, 18 CFR 4.106, provides, among other things, that the Commission reserves the right to revoke an exemption if any term or condition of the exemption is violated.

Commission records indicate that the project stopped operating sometime between 1996 and 1999. After several years of correspondence regarding restoring operation to the project or surrounding the exemption, the exemptee has become non-responsive. On December 16, 2013, the Commission sent a letter indicating that the exemptee must file a plan and schedule to restore operation or surrender the project, failure to do so would result in an implied surrender. To date, the exemptee has not filed a response and the project remains inoperable.

l. This notice is available for review and reproduction at the Commission in the Public Reference Room, Room 2A, 888 First Street NE., Washington, DC 20426. The filing may also be viewed on the Commission's Web site at http://www.ferc.gov/docs-filing/elibrary.asp. Enter the Docket number (P-7684-001) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments or protests in accordance with the requirements of Rules of Practice and Procedure, 18 CFR 385.210 and 385.211. In determining the appropriate action to take, the Commission will consider all protests filed. Any protests must be received on or before the specified deadline date for the particular proceeding.

o. Filing and Service of Responsive Documents—Any filing must (1) bear in all capital letters the title “COMMENTS or “PROTEST,” as applicable; (2) set forth in the heading the project number of the proceeding to which the filing responds; (3) furnish the name, address, and telephone number of the person commenting or protesting; and (4) otherwise comply with the requirements of 18 CFR 385.2001 through 385.2005. All comments or protests must set forth their evidentiary basis and otherwise comply with the requirements of 18 CFR 4.34(b). All comments or protests should relate to project works which are the subject of the termination of exemption. A copy of any protest must be served upon each representative of the exemptee specified in item g above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: February 3, 2014.
Kimberly D. Bose,
Secretary.

[FR Doc. 2014-02742 Filed 2-7-14; 8:45 am]

BILLING CODE 6717-01-P